ENVIRONMENTAL PROTECTION AGENCY

40 CFR Part 300

[EPA-HQ-SFUND-1983-0002; FRL-9467-9]

National Oil and Hazardous Substances Pollution Contingency Plan; National Priorities List: Partial Deletion of the California Gulch Superfund Site

AGENCY: Environmental Protection Agency.

ACTION: Final rule.

SUMMARY: The Environmental Protection Agency (EPA) Region 8 announces the deletion of the remaining portions of Operable Unit 9 (OU9), the Residential Populated Areas, of the California Gulch Superfund Site (Site), located in Lake County, Colorado, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the remaining portions of OU9. Operable units 1, 3, 4, 5, 6, 7, 11 and 12 will remain on the NPL and are not being considered for deletion as part of this action. The EPA and the State of Colorado, through the Colorado Department of Public Health and Environment, have determined that all appropriate response actions under CERCLA, other than operation, maintenance, and five-year reviews, have been completed. However, the deletion of these parcels does not preclude future actions under Superfund.

DATES: Effective Date: This action is effective September 21, 2011.

ADDRESSES: Information Repositories: EPA has established a docket for this action under Docket Identification No. EPA-HQ-SFUND-1983-0002. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

U.S. EPA Region 8, Superfund Records Center, 1595 Wynkoop Street, Denver, CO 80202. (303) 312-6473 or toll free (800) 227-8917; Hours: 8 a.m. to 4:30 p.m., Monday through Friday, excluding holidays; and

Lake County Public Library, 1115 Harrison Avenue, Leadville, CO 80461. (719) 486-0569: Hours: Monday and Wednesday 10 a.m. to 8 p.m.; Tuesday & Thursday 10 a.m. to 5 p.m.; Friday & Saturday 1 p.m. to 5 p.m.; and

Timberline Campus Library of Colorado Mountain College, 901 U.S. Highway 24 South, Leadville, CO 80461. (719) 486-4250; Hours: Monday to Thursday 8 a.m. to 9 p.m.; Friday 8 a.m. to 5 p.m.; Saturday 12 p.m. to 5 p.m.; and Sunday 12 p.m. to 8 p.m.

FOR FURTHER INFORMATION CONTACT: Linda Kiefer, Remedial Project Manager, U.S. Environmental Protection Agency, Region 8, Mailcode EPR-SR, 1595 Wynkoop Street, Denver, CO 80202-1129, (303) 312-6689, e-mail: kiefer.linda@epa.gov.

SUPPLEMENTARY INFORMATION: The portion of the site to be deleted from the NPL is: the remaining portions of OU9 of the California Gulch Superfund Site, located in Leadville, Lake County, Colorado. A Notice of Intent for Partial Deletion for this Site was published in the Federal Register on May 24, 2011 FR Doc No: 2011-12766.

The closing date for comments on the Notice of Intent for Partial Deletion was June 23, 2011. Three public comments were received: two requesting continuation of the voluntary investigation/remediation program and one recommending that, because OU12, Site-wide Water Quality, is not ready for deletion, OU9 should not be deleted. The deletion is still appropriate, because all appropriate response actions have been completed, and the operable unit is in operations and maintenance. The current operations and maintenance program, the Lake County Community Health Program Phase 2, provides opportunities for investigation and soil remediation, if the Program's Work Group determines that lead in residential soil is contributing to an elevated blood lead in a child or pregnant/nursing woman. Under current EPA policy for partial deletion, one operable unit or environmental medium can be deleted irrespective of the readiness for deletion of other operable units or the site as a whole. A responsiveness summary was prepared and placed in both the docket, EPA-HQ-SFUND-1983-002, on http://www.regulations.gov, and in the local repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 13, 2011.
James B. Martin,
Regional Administrator, Region 8 .

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

Appendix B—[Amended]

2. Table 1 of Appendix B to part 300 is amended by revising the entry “CO, California Gulch, Leadville” to read as follows:

Appendix B to Part 300—National Priorities List

Table 1—General Superfund Section
State | Site name | City/County | Notes (a)
* * * * * * *
CO | California Gulch | Leadville | P
* * * * * * *
(a) A = Based on issuance of health advisory by Agency for Toxic Substances and Disease Registry (if scored, HRS score need not be ≤ 28.50).
P = Sites with partial deletion(s).

[FR Doc. 2011-24094 Filed 9-20-11; 8:45 am]

BILLING CODE 6560-50-P